DEPARTMENT OF AGRICULTURE

Submission for OMB Review; Comment Request

May 9, 2006.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Agricultural Statistics Service

Title: 2007 Census of Agriculture.

OMB Control Number: 0535-0226.

Summary of Collection: The National Agricultural Statistics Service (NASS) is responsible for conducting the Census of Agriculture under the authority of the Census of Agriculture Act of 1997, Public Law 105-113. The census of agriculture is required by law every five years and is the primary source of statistics concerning the nation's agricultural industry. It provides the only basis of consistent, comparable data throughout the more than 3,000 counties in the 50 States and Puerto Rico. For the outlying areas of American Samoa, Commonwealth of the Northern Mariana Islands, Guam and U.S. Virgin Islands, it is the only source of consistent, comparable agricultural data.

Need and Use of the Information: The information collected will serve as the basis for many agriculturally-based decisions. The data collection for the censuses of agriculture will be conducted primarily by mail-out/mail-back procedures and direct enumeration methods for Guam, the U.S. Virgin Islands and Commonwealth of the Northern Mariana Islands (CNMI). Collecting this information less frequently would hinder Federal, State, and local governments' ability to monitor the farm programs and environmental regulations affecting the agricultural economy.

Description of Respondents: Farms; Individuals or households.

Number of Respondents: 3,525,700.

Frequency of Responses: Reporting: Other (Every 5 years).

Total Burden Hours: 1,267,650.

Charlene Parker,
Departmental Information Collection Clearance Officer.

[FR Doc. E6-7277 Filed 5-11-06; 8:45 am]

BILLING CODE 3410-20-P